Title 3—

The President

Notice of April 10, 2012

Continuation of the National Emergency With Respect to Somalia

On April 12, 2010, by Executive Order 13536, I declared a national emergency pursuant to the International Emergency Economic Powers Act (50 U.S.C. 1701-1706) to deal with the unusual and extraordinary threat to the national security and foreign policy of the United States constituted by the fragile security situation and the persistence of violence in Somalia, and acts of piracy and armed robbery at sea off the coast of Somalia, which have repeatedly been the subject of United Nations Security Council resolutions, and violations of the Somalia arms embargo imposed by the United Nations Security Council.

Because the situation with respect to Somalia continues to pose an unusual and extraordinary threat to the national security and foreign policy of the United States, the national emergency declared on April 12, 2010, and the measures adopted on that date to deal with that emergency, must continue in effect beyond April 12, 2012. Therefore, in accordance with section 202(d) of the National Emergencies Act (50 U.S.C. 1622(d)), I am continuing for 1 year the national emergency declared in Executive Order 13536.

This notice shall be published in the Federal Register and transmitted to the Congress.

THE WHITE HOUSE,

April 10, 2012.

[FR Doc. 2012-8907

Filed 4-10-12; 2:15 pm]

Billing code 3295-F2-P